DEPARTMENT OF HEALTH AND HUMAN SERVICES

Food and Drug Administration

Advisory Committees; Tentative Schedule of Meetings for 2007

AGENCY: Food and Drug Administration, HHS.

ACTION: Notice.

SUMMARY: The Food and Drug Administration (FDA) is announcing a tentative schedule of forthcoming meetings of its public advisory committees for 2007. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative amendments to this notice will not be published in the Federal Register. However, changes to the schedule will be posted on the FDA advisory committees' Internet site located at http://www.fda.gov/oc/advisory/default.htm. FDA will continue to publish a Federal Register notice 15 days in advance of each upcoming advisory committee meeting, to announce the meeting (21 CFR 14.20).

The following list announces FDA's tentatively scheduled advisory committee meetings for 2007. You may also obtain up-to-date information by calling the Advisory Committee Information Line, 1-800-741-8138 (301-443-0572 in the Washington, DC area).

Table 1.
Committee Name | Tentative Date(s) of Meeting(s) | Advisory Committee 10-Digit Information Line Code
OFFICE OF THE COMMISSIONER
Pediatric Advisory Committee | April day(s) to be announced. | 8732310001
Science Board to the Food and Drug Administration | June day(s) to be announced. | 3014512603
CENTER FOR BIOLOGICS EVALUATION AND RESEARCH
Allergenic Products Advisory Committee | April 18, October 19. | 3014512388
Blood Products Advisory Committee | April 26-27, August 16-17, December 13-14. | 3014519516
Cellular Tissue and Gene Therapies Advisory Committee | March 29-30, July 26-27, November 15-16. | 3014512389
Transmissible Spongiform | Encephalopathies Advisory Committee to be announced. | 3014512392
Vaccines and Related Biological Advisory Committee | February 27-28, May 16-17, September 19-20, November 14-15. | 3014512391
CENTER FOR DRUG EVALUATION AND RESEARCH
Anesthetic and Life Support Drugs Advisory Committee | March 29. | 3014512529
Anti Infective Drugs Advisory Committee | April 11-12. | 3014512530
Antiviral Drugs Advisory Committee | April, August day(s) to be announced. | 3014512531
Arthritis Advisory Committee | April 12. | 3014512532
Cardiovascular and Renal Health Advisory Committee | April 17-18, August 21-22, October 16-17, December 11-12. | 3014512533
Dermatologic and Ophthalmic Drugs Advisory Committee | To be announced. | 3014512534
Drug Safety and Risk Management Advisory Committee | To be announced. | 3014512535
Endocrinologic and Metabolic Drugs Advisory Committee | June 13-14, September 5-6, November 13-14. | 3014512536
Gastrointestinal Drugs Advisory Committee | To be announced. | 3014512538
Nonprescription Drugs Advisory Committee | March, April day (s) to be announced. | 3014512541
Oncologic Drugs Advisory Committee | March 28-29, June 1, September 11-12, December 4-5. | 3014512542
Peripheral and Central Nervous System Drugs | June 18-20, September 13-14. | 3014512543
Pharmaceutical for Science, Advisory Committee for | April, May day(s) to be announced. | 3014512539
Psychopharmacologic Drugs Advisory Committee | March, April, September, October day(s) to be announced. | 3014512544
Pulmonary Allergy Drugs Advisory Committee | May day(s) to be announced. | 3014512545
Reproductive Health Drugs, Advisory Committee for | January 23-24. | 3014512537
CENTER FOR DEVICES AND RADIOLOGICAL HEALTH
Device Good Manufacturing Practice Advisory Committee | July 18. | 3014512398
Medical Devices Advisory Committee (Comprised of 18 Panels) Anesthesiology and Respiratory Therapy Devices Panel | October 9-10. | 3014512624
Circulatory System Devices Panel | March 1-2, May 22-23, July 17-18, September 18-19, November 13-14. | 3014512625
Clinical Chemistry and Clinical Toxicology Devices Panel | June 12-13, September 13-14, December 4-5. | 3014512514
Dental Products Panel | February 14, June 6, August 29, November 7. | 3014512518
Ear, Nose, and Throat Devices Panel | April 24-25, June 14-15 August 14-15, October 18-19, December 11-12. | 3014512522
Gastroenterology-Urology Devices Panel | May 11, July 20, October 19. | 3014512523
General and Plastic Surgery Devices Panel | May 8-9, September 20-21, December 6-7. | 3014512519
General Hospital and Personal Use Devices Panel | April 3-4, September 26-27. | 3014512520
Hematology and Pathology Devices Panel | April 27, October 19. | 3014512515
Immunology Devices Panel | July 12, October 17. | 3014512516
Medical Devices Dispute Resolution Panel | Meeting Scheduled as Needed. | 3014510232
Microbiology Devices Panel | June 26-27, October 23-24. | 3014512517
Molecular and Clinical Genetics Panel | April 12, October 11. | 3014510231
Neurological Devices Panel | January 26, June 7-8, August 16-17, November 1-2. | 3014512513
Obstetrics and Gynecology Devices Panel | May 17-18, August 2-3, October 25-26, December 13-14. | 3014512524
Ophthalmic Devices Panel | May 24-25, July 12-13, October 2-3, November 29-30. | 3014512396
Orthopaedic and Rehabilitation Devices Panel | February 22-23, March 27-28, May 22-23, July 17-18 September 18-19. November 13-14 | 3014512521
Radiological Devices Panel | May 15, August 21, November 13. | 3014512526
National Mammography Quality Assurance Advisory Committee | May 21-22. | 3014512397
Technical Electronic Product Radiation Safety Standards Committee | September 19. | 3014512399
CENTER FOR FOOD SAFETY AND APPLIED NUTRITION
Food Advisory Committee | May 1-2, September 25-26. | 3014510564
CENTER FOR VETERINARY MEDICINE
Veterinary Medicine Advisory Committee | September 7. | 3014512548
National Center for Toxicological Research (NCTR) | September day(s) to be announced. | 3014512559

Dated: December 22, 2006.
Randall W. Lutter,
Associate Commissioner for Policy and Planning.

[FR Doc. E6-22389 Filed 12-28-06; 8:45 am]

BILLING CODE 4160-01-S